Title 3—

The President

Proclamation 8668 of May 3, 2011

50th Anniversary of the Freedom Rides

By the President of the United States of America

A Proclamation

Fifty years ago, America was struggling to implement the ideals of justice and equality set forth in our founding. The Freedom Rides, organized in the spring of 1961, were an interracial, nonviolent effort to protest the practice of segregation. Setting out from Washington, D.C., on May 4, 1961, the Freedom Riders sought to actualize the decision in Boynton v. Virginia, which held that interstate passengers had a right to be served without discrimination, and to challenge the enforcement of local segregation laws and practices.

The Freedom Rides, organized by the Congress of Racial Equality (CORE), the Student Nonviolent Coordinating Committee (SNCC), and other devoted advocates, built upon the boycotts and sit-ins that were defying Jim Crow segregation across the South. The Freedom Riders themselves were black and white, often students and young people, and committed to the cause of nonviolent resistance. Along the way, buses were attacked and men and women were intimidated, arrested, and brutally beaten. The publicity generated by the courageous Freedom Riders as they faced continued violence and complicit local police drew the attention of the Kennedy Administration and Americans across our country.

Through their defiant journeys, the Freedom Riders sent a resounding message to the rest of our Nation that desegregation was a moral imperative. The Freedom Riders also motivated and mobilized the next generation of civil rights leaders. The unflinching bravery and unyielding commitment of the Freedom Riders inspired many of those involved to become lifelong activists, organizers, and leaders in the civil rights movement.

Today, we remember the Freedom Riders for the sacrifices they made in pursuit of the rights we now enjoy. They showed that people working together across backgrounds and boundaries could hold America accountable to our highest ideals and bend the arc of history towards justice. They showed that young people have the power to generate a movement for equality and steer the course of our Nation. Because of their efforts, and the work of those who marched and stood against injustice, we live in a country where all Americans have the right to dream and choose their own destiny.

NOW, THEREFORE, I, BARACK OBAMA, President of the United States of America, by virtue of the authority vested in me by the Constitution and the laws of the United States, do hereby proclaim May 2011 as the 50th Anniversary of the Freedom Rides. I call upon all Americans to participate in ceremonies and activities that honor the Freedom Riders and all those who struggled for equal rights during the civil rights movement.

IN WITNESS WHEREOF, I have hereunto set my hand this third day of May, in the year of our Lord two thousand eleven, and of the Independence of the United States of America the two hundred and thirty-fifth.

[FR Doc. 2011-11488

Filed 5-6-11; 11:15 am]

Billing code 3195-W1-P